DEPARTMENT OF HEALTH AND HUMAN SERVICES

Office of the Secretary

[Document Identifier: HHS-OS-0945-0004 60D]

Agency Information Collection Activities; Proposed Collection; Public Comment Request

AGENCY: Office of the Secretary, HHS.

ACTION: Notice.

SUMMARY: In compliance with section 3506(c)(2)(A) of the Paperwork Reduction Act of 1995, the Office of the Secretary (OS), Department of Health and Human Services, announces plans to submit an Information Collection Request (ICR), described below, to the Office of Management and Budget (OMB). The ICR is for extending the use of the approved information collection assigned OMB control number 0945-0004, which expires on May 31, 2016. Prior to submitting the ICR to OMB, OS seeks comments from the public regarding the burden estimate, below, or any other aspect of the ICR.

DATES: Comments on the ICR must be received on or before May 16, 2016.

ADDRESSES: Submit your comments to Information.CollectionClearance@hhs.gov or by calling (202) 690-6162.

FOR FURTHER INFORMATION CONTACT: Information Collection Clearance staff, Information.CollectionClearance@hhs.gov or (202) 690-6162.

SUPPLEMENTARY INFORMATION: When submitting comments or requesting information, please include the document identifier HHS-OS-60D for reference.

Information Collection Request Title: Health Insurance Reform Security Standards—Final Rule.

The final rule was published in the Federal Register (68 FR 8334) as CMS-0049-F published on February 20, 2003. On May 22, 2013, CMS 0938-0949 was transferred to OCR 0945-0004.

Abstract: Office of Civil Rights, OCR requests approval to extend this collection without change while OMB reviews our request to incorporate the burdens of compliance with the Security Rule into another existing ICR (OMB #0945-0003, for the HIPAA Privacy Rule and Supporting Regulations), which is being revised to better reflect our experience in administering and enforcing the HIPAA Rules. This ICR extends the existing approved information collection for applicable compliance activities associated with the HIPAA Security Rule. When the revised ICR with OMB #0945-0003 is approved, we will request that this ICR (OMB# 0945-0004) be discontinued.

Likely Respondents: HIPAA covered entities and their business associates.

Total Estimated Annualized Burden—Hours
Response type | Number of respondents | Number of responses per respondent | Average burden per response (in hours) | Total burden hours
45 CFR 164.306 Justification | 75,000 | 3 | 15/60 | 56,250
45 CFR 164.308 Security incident report | 50 | 1 | 8 | 400
45 CFR 164.308 Contingency plan | 60,000 | 1 | 8 | 480,000
45 CFR 164.310 Physical safeguard policies and procedures | 500 | 1 | 10/60 | 83
45 CFR 164.314 Problem reports | 10 | 1 | 1 | 10
Total |  |  |  | 536,743

OS specifically requests comments on (1) the necessity and utility of the proposed information collection for the proper performance of the agency's functions, (2) the accuracy of the estimated burden, (3) ways to enhance the quality, utility, and clarity of the information to be collected, and (4) the use of automated collection techniques or other forms of information technology to minimize the information collection burden.

Darius Taylor,
Information Collection Clearance Officer.

[FR Doc. 2016-05806 Filed 3-14-16; 8:45 am]

BILLING CODE 4153-01-P